DEPARTMENT OF THE TREASURY

Office of the Comptroller of the Currency

Agency Information Collection Activities; Information Collection Renewal; Submission for OMB Review

AGENCY: Office of the Comptroller of the Currency (OCC), Treasury.

ACTION: Joint notice and request for comment.

SUMMARY: In accordance with the requirements of the Paperwork Reduction Act of 1995 (44 U.S.C. chapter 35), the OCC may not conduct or sponsor, and a respondent is not required to respond to, an information collection unless it displays a currently valid Office of Management and Budget (OMB) control number. The OCC is extending, without revision, the “Risk-Based Capital Standards: Advanced Capital Adequacy Framework” information collection, pending OMB review and action on proposed changes to the collection arising from proposed rules published in the Federal Register on August 30, 2012, entitled “Regulatory Capital Rules: Regulatory Capital, Implementation of Basel III, Minimum Regulatory Capital Ratios, Capital Adequacy, Transition Provisions, and Prompt Corrective Action;” “Regulatory Capital Rules: Standardized Approach for Risk-Weighted Assets; Market Discipline and Disclosure Requirements;” and “Regulatory Capital Rules: Advanced Approaches Risk-Based Capital Rule; Market Risk Capital Rule.” The OCC is also giving notice that it has sent the collection to OMB for review.

DATES: Comments must be submitted on or before March 14, 2013.

ADDRESSES: Because paper mail in the Washington, DC area and at the OCC is subject to delay, commenters are encouraged to submit comments by email if possible. Comments may be sent to: Legislative and Regulatory Activities Division, Office of the Comptroller of the Currency, Mail Stop 9W-11, Attention: 1557-0234, SW., Washington, DC 20219. In addition, comments may be sent by fax to (571) 465-4326 or by electronic mail to regs.comments@occ.treas.gov. You may personally inspect and photocopy comments at the OCC, 400 7th Street, SW., Washington, DC 20219. For security reasons, the OCC requires that visitors make an appointment to inspect comments. You may do so by calling (202) 649-6700. Upon arrival, visitors will be required to present valid government-issued photo identification and to submit to security screening in order to inspect and photocopy comments.

All comments received, including attachments and other supporting materials, are part of the public record and subject to public disclosure. Do not enclose any information in your comment or supporting materials that you consider confidential or inappropriate for public disclosure.

Additionally, please send a copy of your comments by mail to: OCC Desk Officer, 1557-0234, U.S. Office of Management and Budget, 725 17th Street, NW., #10235, Washington, DC 20503, or by email to: oira submission@omb.eop.gov.

FOR FURTHER INFORMATION CONTACT: Johnny Vilela, or Mary Gottlieb, OCC Clearance Officers, (202) 649-5490, Legislative and Regulatory Activities Division, Office of the Comptroller of the Currency, 250 E Street, SW., Washington, DC 20219.

SUPPLEMENTARY INFORMATION: The OCC is proposing to renew the following currently approved collection of information without change:

Title: Risk-Based Capital Standards; Advanced Capital Adequacy Framework.

OMB Control No.: 1557-0234.

Frequency of Response: On occasion.

Affected Public: Insured National banks and Federal branches and agencies of foreign banks, Federal savings associations.

Estimated Number of Respondents: 55.

Estimated Total Annual Burden: 821,640 hours.

General Description of Collection: On December 7, 2007, the OCC, the Board of Governors of the Federal Reserve System, and the Federal Deposit Insurance Corporation (Agencies) issued the joint final rule entitled “Risk-Based Capital Standards: Advanced Capital Adequacy Framework” (Basel II) implementing a new risk-based regulatory capital framework for institutions in the United States. The final rule requires certain large or internationally active banks and bank holding companies to (1) Adopt a written implementation plan, (2) update that plan for any mergers, (3) obtain prior written approvals for the use of certain approaches for determining risk-weighted assets, and (4) make certain public disclosures regarding their capital ratios, their components, and information on implicit support provided to a securitization.

The Agencies, on August 30, 2012, proposed three rules (Basel III) that would amend this collection: Regulatory Capital Rules: Regulatory Capital, Implementation of Basel III, Minimum Regulatory Capital Ratios, Capital Adequacy, Transition Provisions, and Prompt Corrective Action (77 FR 52792); Regulatory Capital Rules: Standardized Approach for Risk-Weighted Assets; Market Discipline and Disclosure Requirements (77 FR 52888); and Regulatory Capital Rules: Advanced Approaches Risk-based Capital Rules; Market Risk Capital Rule (77 FR 52978). An information collection request to revise and rename the collection on the basis of the three rules has been acted upon by OMB. However, the OCC is proceeding with the renewal process to ensure continuation of Basel II until Basel III is finalized. The OCC published a 60-day Federal Register notice on November 19, 2012. 77 FR 69546. No comments were received. Comments continue to be requested on:

a. Whether the information collections are necessary for the proper performance of the OCC's functions, including whether the information has practical utility;

b. The accuracy of the OCC's estimate of the burden of the information collection, including the validity of the methodology and assumptions used;

c. Ways to enhance the quality, utility, and clarity of the information to be collected;

d. Ways to minimize the burden of information collections on respondents, including through the use of automated collection techniques or other forms of information technology; and

e. Estimates of capital or start-up costs and costs of operation, maintenance, and purchase of services to provide information.

Dated: February 6, 2013.
Michele Meyer,
Assistant Director, Legislative and Regulatory Activities Division.

[FR Doc. 2013-03135 Filed 2-11-13; 8:45 am]

BILLING CODE 4810-33-P